DEPARTMENT OF TRANSPORTATION

Federal Motor Carrier Safety Administration

[Docket No. FMCSA-2021-0158]

Agency Information Collection Activities; Renewal of a Currently Approved Information Collection: Motor Carrier Identification Report

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled, “Motor Carrier Identification Report,” which is used to identify FMCSA regulated entities, help prioritize the agency's activities, aid in assessing the safety outcomes of those activities, and for statistical purposes. This ICR is necessary to ensure regulated entities are registered with the DOT.

DATES: Comments on this notice must be received on or before August 10, 2022.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. Jeffrey Secrist, Office of Registration and Safety Information, DOT, FMCSA, West Building 6th Floor, 1200 New Jersey Avenue SE, Washington, DC 20590, 202-385-2367, Jeffrey.secrist@dot.gov.

SUPPLEMENTARY INFORMATION:

Title: Motor Carrier Identification Report.

OMB Control Number: 2126-0013.

Type of Request: Renewal of a currently approved collection.

Respondents: Motor carriers, freight forwarders, intermodal equipment providers, brokers, motor carriers with hazardous materials (HM) safety permit, cargo tank facilities and Mexican motor carriers.

Estimated Number of Respondents: 416,630 respondents [412,479 respondents for IC-1 + 2,112 respondents for IC-2 + 2,039 respondents for IC-3 = 416,630].

Estimated Time per Response: IC-1: 20 minutes for new filings and 7.5 minutes for biennial updates and changes to complete the Form MCS-150. IC-2: 26 minutes for new filings and five minutes for biennial updates and changes to complete the Form MCS-150B. IC-3: 20 minutes for new filings and 7.5 minutes for biennial updates and changes to complete the Form MCS-150C.

Expiration Date: July 31, 2022.

Frequency of Response: On occasion and biennially.

Estimated Total Annual Burden: 116,072 hours [114,864 hours for IC-1 + 530 hours for IC-2 + 678 hours for IC-3 = 116,072 hours].

Background: Title 49, United States Code Section 504(b)(2) provides the Secretary of Transportation (Secretary) with authority to require carriers, lessors, associations, or classes of these entities to file annual, periodic, and special reports containing answers to questions asked by the Secretary. The Secretary may also prescribe the form of records required to be prepared or compiled and the time period during which records must be preserved (See § 504(b)(1) and (d)). FMCSA will use this data to administer its safety programs using a database of entities that are subject to its regulations. This database necessitates that these entities notify FMCSA of their existence. For example, under 49 CFR 390.19(a), FMCSA requires all motor carriers beginning operations to file a Form MCS-150 titled, “Motor Carrier Identification Report,” or MCS-150B titled, “Combined Motor Carrier Identification Report and HM Permit Applications.” This report is filed by all motor carriers conducting operations in interstate commerce, in intrastate commerce when transporting hazardous materials, or in international commerce before beginning operations. It asks the respondent to provide the name of the business entity that owns and controls the motor carrier operation; the address and telephone of its principal place of business; its assigned identification number(s), type of operation, and type(s) of cargo usually transported; number of vehicles owned, term leased, and trip leased; driver information; and a certification statement signed by an individual authorized to sign documents on behalf of the business entity.

Existing applicants will use the MCS-150 or MCS-150B to update their information in the Motor Carrier Management Information System. Applicants filing for the first time will be required to file online. Form MCS-150 or MCS-150B will be used for Mexico-domiciled carriers that seek authority to operate beyond the United States municipalities on the United States-Mexico border and their commercial zones. The information collected from the respondents is readily available to the public. This revised ICR captures the burden of continued use of the MCS-150 or MCS-150B for motor carriers updating their registration information and for the registration of Mexico-domiciled carriers.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator, Office of Research and Registration.

[FR Doc. 2022-14629 Filed 7-8-22; 8:45 am]

BILLING CODE 4910-EX-P